DEPARTMENT OF COMMERCE

International Trade Administration

[A-570-862]

Notice of Postponement of Final Determination of Antidumping Duty Investigation: Foundry Coke From the People's Republic of China

AGENCY: Import Administration, International Trade Administration, Department of Commerce.

ACTION: Notice of postponement of final determination of antidumping duty investigation.

EFFECTIVE DATE: April 30, 2001.

FOR FURTHER INFORMATION CONTACT: Doreen Chen or James Doyle, Office IX, DAS Group III, Import Administration, International Trade Administration, U.S. Department of Commerce, 14th Street and Constitution Avenue NW., Washington, DC 20230; telephone (202) 482-0408 and (202) 482-0159, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (the Department) regulations refer to the regulations codified at 19 CFR part 351 (2000).

Background

This investigation was initiated on October 10, 2000. See Initiation of Antidumping Duty Investigation: Foundry Coke Products From the People's Republic of China, 65 FR 61303 (October 17, 2000). The period of investigation (POI) is January 1, 2000 through June 30, 2000. On March 8, 2001, the Department published the notice of preliminary determination. See Notice of Preliminary Determination of Sales at Less Than Fair Value: Foundry Coke From the People's Republic of China, 66 FR 8338 (March 8, 2001).

Postponement of Final Determination and Extension of Provisional Measures

Section 735(a)(2) of the Act provides that a final determination may be postponed until not later than 135 days after the date of the publication of the preliminary determination if, in the event of an affirmative determination, a request for such postponement is made by exporters who account for a significant proportion of exports of the subject merchandise, or in the event of a negative preliminary determination, a request for such postponement is made by petitioner. The Department's regulations, at 19 CFR 351.210(e)(2), require that requests by respondents for postponement of a final determination be accompanied by a request for extension of provisional measures from a four-month period to not more than six months.

In a March 12, 2001 request which was thereafter amended on April 10, 2001, Shanxi Grand Coalchem Industrial Company, Ltd., Sinochem International, CITIC Trading Company Ltd. and Minmetals Development Co. Ltd. (“respondents”), requested that the Department postpone its final determination until not later than 135 days after the date of the publication of the preliminary determination in the Federal Register and requested an extension of the provisional measures. See Notice of the Preliminary Determination of Sales at Less Than Fair Value, 66 FR 13855 (March 8, 2001). In accordance with 19 CFR 351.210(b), because (1) our preliminary determination is affirmative, (2) respondents requesting the postponement account for a significant proportion of exports of the subject merchandise, and (3) no compelling reasons for denial exist, we are granting the respondent's request and are postponing the final determination until no later than 135 days after the publication of preliminary determination in the Federal Register. Suspension of liquidation will be extended accordingly.

This notice is published in accordance with section 735(a)(2) of the Act. Effective January 20, 2001, Bernard T. Carreau is fulfilling the duties of Assistant Secretary for Import Administration.

Dated: April 23, 2001.
Bernard T. Carreau,
Deputy Assistant Secretary, Import Administration.

[FR Doc. 01-10690 Filed 4-27-01; 8:45 am]

BILLING CODE 3510-DS-M